DEPARTMENT OF AGRICULTURE

Animal and Plant Health Inspection Service

[Docket No. APHIS-2017-0071]

Availability of an Environmental Assessment and Finding of No Significant Impact for the Biological Control of Yellow Toadflax

AGENCY: Animal and Plant Health Inspection Service, USDA.

ACTION: Notice.

SUMMARY: We are advising the public that an environmental assessment and finding of no significant impact have been prepared by the Animal and Plant Health Inspection Service relative to the release of a stem gall weevil, Rhinusa pilosa, for the biological control of yellow toadflax (Linaria vulgaris). Based on its finding of no significant impact, the Animal and Plant Health Inspection Service has determined that an environmental impact statement need not be prepared.

FOR FURTHER INFORMATION CONTACT: Dr. Colin D. Stewart, Assistant Director, Pests, Pathogens, and Biocontrol Permits, Permitting and Compliance Coordination, PPQ, APHIS, 4700 River Road Unit 133, Riverdale, MD 20737-1231; (301) 851-2327.

SUPPLEMENTARY INFORMATION: The Animal and Plant Health Inspection Service (APHIS) is proposing to issue permits for the release of a stem gall weevil, Rhinusa pilosa, into the continental United States for use as a biological control agent to reduce the severity of yellow toadflax (Linaria vulgaris) infestations.

On October 2, 2017, we published in the Federal Register (82 FR 45796-45797, Docket No. APHIS-2017-0071) a notice ¹ in which we announced the availability, for public review and comment, of an environmental assessment (EA) that examined the potential environmental impacts associated with the proposed release of this biological control agent into the continental United States.

¹ To view the notice, extension of comment period, EA and FONSI, and the comment we received, go to http://www.regulations.gov/#!docketDetail;D=APHIS-2017-0071.

We solicited comments on the EA for 30 days ending November 1, 2017, and extended the comment period by an additional 15 days at the request of a stakeholder. We received one comment by the November 16, 2017, close of the extended comment period. The commenter raised several issues related to the EA and asked for additional data and clarification on the monitoring of non-target impacts at initial release sites for the stem gall weevil, the expected efficacy of releasing the stem gall weevil and interactions among existing biocontrol agents, the expected results of interactions between the stem gall weevil and the non-native parasitoid wasp Pteromalus microps, and the use of an integrated pest management (IPM) approach to the control of yellow toadflax.

We note in response that the release permit would require that the permittee conduct monitoring of non-target impacts at initial release sites, and provide additional requested data on the efficacy and increased suitability of the stem gall weevil as a biocontrol agent, as well as interactions among existing biocontrol agents, in Appendix 5 of the final EA. In our extended written response in Appendix 5, we also explain the unlikely impact of the non-native parasitoid wasp P. microps on the effectiveness of R. pilosa in controlling yellow toadflax, and note that the use of an IPM approach to control yellow toadflax, while important, is beyond the scope of the EA.

In this document, we are advising the public of our finding of no significant impact (FONSI) regarding the release of Rhinusa pilosa into the continental United States for use as a biological control agent to reduce the severity of yellow toadflax infestations. The finding, which is based on the EA, reflects our determination that release of this biological control agent will not have a significant impact on the quality of the human environment.

The EA and FONSI may be viewed on the Regulations.gov website (see footnote 1). Copies of the EA and FONSI are also available for public inspection in our reading room, which is located in room 1141 of the USDA South Building, 14th Street and Independence Avenue SW, Washington, DC. Normal reading room hours are 8 a.m. to 4:30 p.m., Monday through Friday, except holidays. To be sure someone is there to help you, please call (202) 799-7039 before coming. In addition, copies may be obtained by calling or writing to the individual listed under FOR FURTHER INFORMATION CONTACT.

The EA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 1st day of March 2018.
Kevin Shea,
Administrator, Animal and Plant Health Inspection Service.

[FR Doc. 2018-04576 Filed 3-6-18; 8:45 am]

BILLING CODE 3410-34-P